DEPARTMENT OF ENERGY

Federal Energy Regulatory Commission

[Docket No. RP96-389-045]

Columbia Gulf Transmission Company; Notice of Compliance Filing

March 19, 2002.

Take notice that on March 13, 2002, Columbia Gulf Transmission Company (Columbia Gulf) tendered for filing, as part of its FERC Gas Tariff, Second Revised Volume No. 1, the following tariff sheets with an effective date of March 1, 2002:

Sixth Revised Sheet No. 20

Fifth Revised Sheet No. 20A

Fifth Revised Sheet No. 20B

Columbia Gulf states that it is filing the tariff sheets to comply with the Commission's October 24, 2001 orders approving negotiated rate agreements in Docket Nos. RP96-389-031, and -032.

Columbia Gulf states that it has served copies of the filing on all parties identified on the official service list in Docket No. RP96-389.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7080 Filed 3-22-02; 8:45 am]

BILLING CODE 6717-01-P